FEDERAL COMMUNICATIONS COMMISSION

Notice of Public Information Collection Being Submitted for Review to the Office of Management and Budget (OMB), Comments Requested

December 1, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on January 8, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0270.

Title: Section 90.443, Content of Station Records.

Form No.: N/A.

Type of Review: Extension of a currently approved collection.

Respondents: Individuals or households, business or other for-profit, not-for-profit institutions and state, local or tribal government.

Number of Respondents: 65,295 respondents; 65,295 responses.

Estimated Time Per Response: .25 hours (15 minutes).

Frequency of Response: Recordkeeping requirement.

Obligation to Respond: Required to obtain or retain benefits. Statutory authority for this collection of information is contained in 47 U.S.C. Section 303(j).

Total Annual Burden: 16,324 hours.

Privacy Act Impact Assessment: Yes. The FCC maintains a system of records notice (SORN), FCC/WTB-1, “Wireless Services Licensing Records,” that covers the collection, purpose(s), storage, safeguards, and disposal of the records of private land mobile radio licensees under 47 CFR 90.443. The FCC published the SORN on April 5, 2006 (71 FR 17324, 17269). The FCC completed a Privacy Impact Assessment (PIA) as required by OMB Memorandum, M-03-22 (September 22, 2003) on November 5, 2008. The PIA may be viewed on the FCC's Privacy Act webpage at: <http://www.fcc.gov/omd/privacyact/System_of_records/pia-uls.pdf>.

Nature and Extent of Confidentiality: There is a need for confidentiality with respect to all Private Land Mobile Radio service filers subject to this information collection. Information on private land mobile radio licensees is maintained in the Commission's system of records, FCC/WTB-1, “Wireless Services Licensing Records.” The licensee records will be publicly available and routinely used in accordance with subsection (b) of the Privacy Act. FCC Registration Numbers (FRNs) and material which is afforded confidential treatment pursuant to a request made under 47 CFR 0.459 will not be available for public inspection. Any personally identifiable information (PII) that individual applicants provide is covered by FCC/WTB-1 and these and all other records may be disclosed pursuant to the Routine Uses as stated in the SORN.

Need and Uses: The Commission is requesting an extension (no change in the recordkeeping requirement) of this information collection from the Office of Management and Budget (OMB) in order to obtain the full three year clearance from them. The Commission's estimates have increased since the 2007 submission to the OMB. The Commission is now reporting a 7,885 increase in the number of respondents which increased the total annual burden by 11,559 hours. This adjustment reflects more accurate estimates for Paperwork Reduction Act purposes.

Section 90.443 requires that the dates and pertinent details of any maintenance performed on station equipment, and the name and address of the service technician who did the work be entered in the station records. These records will reflect whether or not maintenance of the licensee's equipment has been performed.

The maintenance records may be used by the licensee or Commission field personnel to note any recurring equipment problems or conditions that may lead to degraded equipment performance and/or interference generation. Tower lighting records are required to ensure that the licensee is aware of the tower light condition and proper operation, in order to prevent and/or correct any hazard to air navigation.

Federal Communications Commission.
Marlene H. Dortch,
Secretary,
Office of the Secretary,
Office of Managing Director.

[FR Doc. E9-29309 Filed 12-8-09; 8:45 am]

BILLING CODE: 6712-01-S